DEPARTMENT OF COMMERCE

National Oceanic and Atmospheric Administration

RIN 0648-XS99

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Scientific and Statistical Committee, on December 8-9, 2009, to consider actions affecting New England fisheries in the exclusive economic zone (EEZ). Recommendations from this group will be brought to the full Council for formal consideration and action, if appropriate.

DATES: This meeting will be held on Tuesday, December 8 at 10 a.m. and Wednesday, December 9, 2009 at 8:30 a.m.

ADDRESSES: The meeting will be held at the Seaport Hotel, One Seaport Lane, Boston, MA 02210; telephone: (617) 385-4000; fax: (617) 385-4001.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Tuesday, December 8, 2009

The Scientific and Statistical Committee (SSC) will discuss SSC policies and procedures and review and possibly revise the Council research recommendations.

Wednesday, December 9, 2009

The SSC will finalize its recommendations to the Habitat Plan Development Team concerning the PDT's analyses of gear effects, vulnerability assessment and adverse impacts evaluations associated with Draft Habitat Omnibus 2, an action that will update all New England Council fishery management plan essential fish habitat (EFH) designations and include measures to reduce adverse impacts on EFH.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: November 19, 2009.
William D. Chappell,
Acting Director, Office of Sustainable Fisheries, National Marine Fisheries Service.

[FR Doc. E9-28133 Filed 11-23-09; 8:45 am]

BILLING CODE 3510-22-S